DEPARTMENT OF HEALTH AND HUMAN SERVICES

National Institutes of Health

Center for Scientific Review; Amended Notice of Meeting

Notice is hereby given of a change in the meeting of the Center for Scientific Review Special Emphasis Panel, December 9, 2003, 12 p.m., to December 9, 2003, 1 p.m., National Institutes of Health, 6701 Rockledge Drive, Bethesda, MD, 20892 which was published in the Federal Register on December 8, 2003, 68 FR 68404-68405.

The meeting will be held December 12, 2003, from 10 a.m. to 11 a.m. The location remains the same. The meeting is closed to the public.

Dated: December 10, 2003.
LaVerne Y. Stringfield,
Director, Office of Federal Advisory Committee Policy.

[FR Doc. 03-30979 Filed 12-15-03; 8:45 am]

BILLING CODE 4140-01-M